DEPARTMENT OF THE INTERIOR

Fish and Wildlife Service

50 CFR Part 17

RIN 1018-AH03

Endangered and Threatened Wildlife and Plants; Notice of Availability of Draft Economic Analysis, Reopening of Comment Period, and Notice of Public Hearing for the Proposed Critical Habitat Determination for the Quino Checkerspot Butterfly

AGENCY: Fish and Wildlife Service, Interior.

ACTION: Proposed rule; notice of availability of draft economic analysis, reopening of public comment period, and notice of public hearing.

SUMMARY: We, the U.S. Fish and Wildlife Service (Service), announces the availability of the draft economic analysis for the proposed determination of critical habitat for the Quino checkerspot butterfly (Euphydryas editha quino) and the reopening of the public comment period for the proposed determination to allow all interested parties to submit written comments on the proposal and on the draft economic analysis. Comments previously submitted need not be resubmitted as they have been incorporated into the public record and will be fully considered in the final rule. Additionally, we are announcing that a public hearing will be held on the proposed critical habitat determination.

DATES: The original public comment period on the critical habitat proposed determination closed on April 9, 2001. The public comment period is reopened, and we will accept comments until July 30, 2001. Comments must be received by the 5:00 p.m. on the closing date. Any comments that are received after the closing date may not be considered in the final decision on this action. The public hearing will be held on July 17, 2001, from 1:00 p.m. to 3:00 p.m. and from 6:00 p.m. to 8:00 p.m. in Escondido, California.

ADDRESSES: The public hearing will be held at the Castle Creek Inn Resort, 29850 Circle R Way, Escondido, California. Copies of the draft economic analysis and proposed critical habitat determination are available on the Internet at http://carlsbad.fws.gov or by writing to the Field Supervisor, U.S. Fish and Wildlife Service, Carlsbad Fish and Wildlife Office, 2730 Loker Avenue West, Carlsbad, California, 92008. Written comments should be sent to the Field Supervisor. You may also send comments by electronic mail (e-mail) to fws1quino@fws.gov. Please submit comments in ASCII file format and avoid the use of special characters and encryption. Please include “Attn: Quino checkerspot butterfly” and your name and return address in your e-mail message. If you do not receive a confirmation from the system that we have received your e-mail message, contact us directly by calling our Carlsbad Fish and Wildlife Office at phone number 760-431-9440. Comments and materials received will be available for public inspection, by appointment, during normal business hours at the Carlsbad Fish and Wildlife Office, at the above address.

FOR FURTHER INFORMATION CONTACT: Douglas Krofta, Branch Chief, Listing, Carlsbad Fish and Wildlife Office, at the above address (telephone 760-431-9440; facsimile 760-431-9624).

SUPPLEMENTARY INFORMATION:

Background

The Quino checkerspot butterfly is a member of the family Nymphalidae (brush-footed butterflies) that occurs in open habitat patches primarily in coastal sage scrub and native plant communities ranging from southwestern Riverside County, California to north-central Baja California, Mexico. The primary host plant for Quino checkerspot butterfly larvae is Plantago spp. (plantain), while nectar sources for adult butterflies primarily include plants of the figwort plant family, or closely related plants.

The adult Quino checkerspot butterfly has a wingspan of approximately 4 centimeters (1.5 inches). The top sides of the wings have a red, black, and cream colored checkered pattern and the bottom sides are dominated by a red and cream marbled pattern. The abdomen of Quino checkerspot butterflies has red stripes across the top. Quino checkerspot butterfly larvae are black with a row of nine orange fleshy/hairy extensions on their back. Pupae are mottled black on a pale blue-gray background and extremely well camouflaged.

Historically, common in southern California and north-central Baja California, Mexico, the species had declined to the point of needing protection under the Endangered Species Act of 1973, as amended (Act). On January 16, 1997, the Quino checkerspot butterfly was listed as endangered throughout its range (62 FR 2313). The Quino checkerspot butterfly's continued survival is threatened primarily by habitat loss and degradation, and encroachment by non-native species. On February 7, 2001, the Fish and Wildlife Service published a rule proposing critical habitat for the Quino checkerspot butterfly in the Federal Register (66 FR 9476). We proposed designation of approximately 121,814 hectares (301,010 acres) as critical habitat for the Quino checkerspot butterfly pursuant to the Act. Proposed critical habitat is in western Riverside and southern San Diego Counties, California, as described in the proposed rule.

Section 4(b)(2) of the Act requires that the Secretary shall designate or revise critical habitat based upon the best scientific and commercial data available and after taking into consideration the economic impact of specifying any particular area as critical habitat. Based upon the previously published proposal to designate critical habitat for the Quino checkerspot butterfly and comments received during previous comment period, we have prepared a draft economic analysis of the proposed critical habitat designation, which is available at the above Internet and mailing address.

Section 4(b)(5)(E) of the Act (16 U.S.C. 1531 et seq.), requires that a public hearing be held if it is requested within 45 days of the publication of a proposed rule. In response to a request from the Otay Land Company, the Service will hold a public hearing on the date and at the address described in the DATES and ADDRESSES sections above.

Anyone wishing to make an oral statement for the record is encouraged to provide a written copy of their statement and present it to the Service at the hearing. In the event there is a large attendance, the time allotted for oral statements may be limited. Oral and written statements receive equal consideration. There are no limits to the length of written comments presented at the hearing or mailed to the Service. Legal notices announcing the date, time, and location of the hearing will be published in newspapers concurrently with the Federal Register notice.

Comments from the public regarding the accuracy of this proposed rule are sought, especially regarding:

(1) The location of any additional populations of Quino checkerspot butterflys and the reasons why any habitat should or should not be determined to be critical habitat;

(2) Additional information regarding the validity of the primary constituent elements described in the proposed rule; and

(3) Additional information regarding areas that may be essential as travel corridors for connecting individual Quino checkerspot butterfly populations.

Reopening of the comment period will enable the Service to respond to the request for a public hearing on the proposed action. The comment period on this proposal now closes on July 30, 2001. Written comments should be submitted to the Service office listed in the ADDRESSES section.

Public Hearing

A public hearing on the proposed determination of critical habitat for the Quino checkerspot butterfly is scheduled to be held on Tuesday, July 17, 2001, from 1:00 p.m. to 3:00 p.m. and from 6:00 p.m. to 8:00 p.m. at the Castle Creek Inn Resort, 29850 Circle R Way, Escondido, California. Please contact the Carlsbad Fish and Wildlife Office at the above address with any questions concerning this public hearing.

Public Comment Solicited

We have reopened the comment period at this time in order to accept the best and most current scientific and commercial data available regarding the proposed critical habitat determination for the Quino checkerspot butterfly and the draft economic analysis of proposed critical habitat determination. Previously submitted written comments on this critical habitat proposal need not be resubmitted. The current comment period on this proposal closes on July 30, 2001. Written comments should be submitted to the Carlsbad Fish and Wildlife Office in the ADDRESSES section.

Author

The primary author of this notice is Douglas Krofta (see ADDRESSES section).

Authority

The authority for this action is the Endangered Species Act of 1973 (16 U.S.C. 1531 et seq.).

Dated: June 14, 2001.
Alexandra Pitts,
Acting Manager, California/Nevada Operations Office, Region 1.

[FR Doc. 01-15477 Filed 6-19-01; 8:45am]

BILLING CODE 4310-55-P